COMMITTEE FOR PURCHASE FROM PEOPLE WHO ARE BLIND OR SEVERELY DISABLED

Procurement List; Proposed Additions and Deletions

ACTION: Proposed Additions to and Deletions from the Procurement List.

SUMMARY: The Committee is proposing to add to the Procurement List services to be furnished by nonprofit agencies employing persons who are blind or have other severe disabilities, and to delete a product and a service previously furnished by such agencies.

Comments Must be Received on or Before: October 21, 2007.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Kimberly M. Zeich, Telephone: (703) 603-7740, Fax: (703) 603-0655, or e-mail CMTEFedReg@jwod.gov.

SUPPLEMENTARY INFORMATION: This notice is published pursuant to 41 U.S.C. 47(a) (2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Grounds Maintenance, Naval Support Activity, 2300 General Meyers Avenue, Algiers, LA.

NPA: Goodworks, Inc., Metairie, LA.

Contracting Activity: Naval Facilities Engineering Command (NAVFAC)—SE, New Orleans, LA.

Service Type/Location: Janitorial/Grounds Maintenance, Customs and Border Protection, New Sector Headquarters, 211 Aten Road, Imperial, CA.

NPA: ARC-Imperial Valley, El Centro, CA.

Contracting Activity: Department of Homeland Security, Customs and Border Protection, Washington, DC.

Service Type/Location: Tele-Services—Tier 1 & Other Support Services, Centers for Medicare and Medicaid Services, Beneficiary Contact Center Facility (BCC), 2400 Oakdale Boulevard, Coralville, IA.

NPA: Peckham Vocational Industries, Inc., Lansing, MI.

Contracting Activity: Department of Health & Human Services, Centers for Medicare and Medicaid Services, Baltimore, MD.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the product and service to the Government.

3. There are no known regulatory alternatives which would accomplish the objectives of the Javits-Wagner-O'Day Act (41 U.S.C. 46-48c) in connection with the product and service proposed for deletion from the Procurement List.

Comments on this certification are invited. Commenters should identify the statement(s) underlying the certification on which they are providing additional information.

End of Certification

The following product and service are proposed for deletion from the Procurement List:

Product

Diaper, Infant's

NSN: 6532-01-127-2213—Diaper, Infants.

NPA: Lions Industries for the Blind, Inc., Kinston, NC.

Contracting Activity: Defense Supply Center Philadelphia, Philadelphia, PA.

Service

Service Type/Location: Duplicating Service, (GPO Program C285-S), Federal Bureau of Investigation, Criminal Justice Information Services Complex, Clarksburg, WV.

NPA: Job Squad, Inc., Bridgeport, WV.

Contracting Activity: Government Printing Office, Washington, DC.

Louis R. Bartalot,
Director, Program Analysis and Evaluation.

[FR Doc. E7-18631 Filed 9-20-07; 8:45 am]

BILLING CODE 6353-01-P